ENVIRONMENTAL PROTECTION AGENCY

40 CFR Part 372

[EPA-HQ-TRI-2022-0453; FRL-9427-02-OCSPP]

RIN 2070-AL04

Implementing Statutory Addition of Certain Per- and Polyfluoroalkyl Substances (PFAS) to the Toxics Release Inventory Beginning With Reporting Years 2021 and 2022; Correction

AGENCY: Environmental Protection Agency (EPA).

ACTION: Final rule; correction.

SUMMARY: EPA is issuing a correction to a final rule that published in the Federal Register on Monday, July 18, 2022. The document updated the list of chemicals subject to toxic chemical release reporting under the Emergency Planning and Community Right-to-Know Act (EPCRA) and the Pollution Prevention Act (PPA). Specifically, the action updated the regulations to identify five per- and polyfluoroalkyl substances (PFAS) that must be reported pursuant to the National Defense Authorization Act for Fiscal Year 2020 (FY2020 NDAA) enacted on December 20, 2019. This document corrects inadvertent errors in the preamble and the amendatory instructions that appeared in the regulatory text portion of the final rule.

DATES: This correction is effective on August 17, 2022.

ADDRESSES: The docket for this action, identified by docket identification (ID) number EPA-HQ-TRI-2022-0453, is available at https://www.regulations.gov. Please review the visitor instructions and additional information about the docket available at https://www.epa.gov/dockets.

FOR FURTHER INFORMATION CONTACT:

For technical information contact: Daniel R. Ruedy, Data Gathering and Analysis Division (7406M), Office of Pollution Prevention and Toxics, Environmental Protection Agency, 1200 Pennsylvania Ave. NW, Washington, DC 20460-0001; telephone number: (202) 564-7974; email address: ruedy.daniel@epa.gov.

For general information contact: The Emergency Planning and Community Right-to-Know Act Hotline; telephone numbers: toll free at (800) 424-9346 (select menu option 3) or (703) 348-5070 in the Washington, DC Area and International; or go to https://www.epa.gov/home/epa-hotlines.

SUPPLEMENTARY INFORMATION:

Correction

In FR Doc. 2022-15268, appearing on page 42651 in the Federal Register of Monday, July 18, 2022 (87 FR 42651; FRL-9427-01-OCSPP), the following corrections are made:

1. On page 42653, in the first column of the table, in the fifth entry, the chemical name “2-Propenoic acid, 2-methyl-, hexadecyl ester, polymers with 2-hydroxyethyl methacrylate, gamma-omega-perfluoro-C10-6-alkyl acrylate and stearyl methacrylate (203743-03-7)” is corrected to read “2-Propenoic acid, 2-methyl-, hexadecyl ester, polymers with 2-hydroxyethyl methacrylate, .gamma.-.omega.-perfluoro-C10-16-alkyl acrylate and stearyl methacrylate (203743-03-7)”.

§ 372.65 [Corrected]

2. On page 42655, in § 372.65(d), in Table 4 to Paragraph (d):

a. In the first column, the chemical name corresponding to CAS No. 29420-49-3 is corrected to read “Potassium perfluorobutane sulfonate”; and

b. in the first column, the chemical name corresponding to CAS No. 203743-03-7 is corrected to read “2-Propenoic acid, 2-methyl-, hexadecyl ester, polymers with 2-hydroxyethyl methacrylate, .gamma.-.omega.-perfluoro-C10-16-alkyl acrylate and stearyl methacrylate.”

3. On page 42655, in § 372.65(e), in Table 5 to Paragraph (e):

a. In the second entry, “Potassium perfluorobutane” is corrected to read “Potassium perfluorobutane sulfonate”; and

b. In the fifth entry, “2-Propenoic acid, 2-methyl-, hexadecyl ester, polymers with 2-hydroxyethyl methacrylate, .gamma.-.omega.-perfluoro-C10-6-alkyl acrylate and stearyl ethacrylate” is corrected to read “2-Propenoic acid, 2-methyl-, hexadecyl ester, polymers with 2-hydroxyethyl methacrylate, .gamma.-.omega.-perfluoro-C10-16-alkyl acrylate and stearyl methacrylate”.

Dated: July 27, 2022.
Michal Freedhoff,
Assistant Administrator, Office of Chemical Safety and Pollution Prevention.

[FR Doc. 2022-16495 Filed 8-1-22; 8:45 am]

BILLING CODE 6560-50-P